DEPARTMENT OF LABOR

Pension and Welfare Benefits Administration

Proposed Extension of Information Collection Request Submitted for Public Comment and Recommendations; Procedure for Application for Exemption From the Prohibited Transaction Provisions of Section 408(a) of the Employee Retirement Income Security Act (ERISA)

ACTION: Notice.

SUMMARY: The Department of Labor (the Department), as part of its continuing effort to reduce paperwork and respondent burden conducts a preclearance consultation program to provide the general public and other federal agencies with an opportunity to comment on proposed and continuing collections of information in accordance with the Paperwork Reduction Act of 1995 (PRA 95) (44 U.S.C. 3506(c)(2)(A)). This program helps to ensure that requested data is provided in the desired format, reporting burden (time and financial resources) is minimized, collection instruments are clearly understood, and the impact of collection requirements on respondents can be properly assessed.

Currently, the Pension and Welfare Benefits Administration is soliciting comments on the extension of the information collection request (ICR) included in the procedure for applications for exemption from the prohibited transaction provisions of section 408(a) of the Employee Retirement Income Security Act of 1974 (ERISA). A copy of the proposed information collection request (ICR) can be obtained by contacting the office listed below in the addresses section of this notice.

DATES: Written comments must be submitted to the office listed in the addresses section on or before October 15, 2001.

ADDRESSES: Interested parties are invited to submit written comments regarding the ICR to Mr. Gerald B. Lindrew, Office of Policy and Research, U.S. Department of Labor, Pension and Welfare Benefits Administration, 200 Constitution Avenue, NW., Room N-5647, Washington, DC 20210. Telephone: (202) 219-4782; Fax: (202) 219-4745. These are not toll-free numbers.

SUPPLEMENTARY INFORMATION:

I. Background

Section 408(a) of ERISA provides that the Secretary may grant exemptions from the prohibited transaction provisions of sections 406 and 407(a) of ERISA and directs the Secretary to establish an exemption procedure with respect to such provisions. The regulation at 29 CFR 2570.30, et seq. establishes such a procedure for an Application for Exemption from the Prohibited Transaction Provisions of Section 408(a). In order for the Secretary to grant an exemption under section 408(a) of ERISA, it must be determined that such exemption is: (1) Administratively feasible; (2) in the interests of the plan and its participants and beneficiaries, and; (3) protective of the rights of participants and beneficiaries. To make such a determination, the Department requires full information regarding the specific circumstances surrounding the transaction and the parties and assets involved, including identifying information (name, type of plan, EIN number, etc.), the number of participants and beneficiaries in the plan, whether the applicant or others involved in the transaction are parties in interest, specialized information relating to the prohibited transaction, and filing requirements. In addition, the applicant must certify to the Department that the information supplied is accurate and complete.

If the Department tentatively decides that the exemption should be granted, it will publish a notice of the proposed exemption in the Federal Register. An applicant for an exemption must provide interested persons with a copy of the Federal Register notice and a supplemental statement that informs them of their right to comment to the Department on the proposed exemption.

Type of Review: Extension of a currently approved collection of information.

Agency: U.S. Department of Labor, Pension and Welfare Benefits Administration (PWBA).

Title: Procedure for Application for Exemption from the Prohibited Transaction Provisions of Section 408(a) of the Employee Retirement Income Security Act (ERISA).

OMB Number: 1210-0060.

Frequency: On occasion.

Affected Public: Business or other for-profit; not-for-profit institutions; individuals or households.

Number of Respondents: 116.

Number of Responses: 116.

Total Estimated Burden Hours: 4.

Total Estimated Burden Costs (O&M): $160,200.

II. Desired Focus of Comments

The Department of Labor is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Minimize the burden of the collection of information on those who are to respond, including through the use of appropriate automated, electronic, mechanical, or other technological collection techniques or other forms of information technology, e.g., permitting electronic submission of responses.

III. Current Actions

The Department intends to request an extension of the approval for this ICR by the Office of Management and Budget under control number 1210-0060. No change has been made to the existing regulation or the ICR. The information to be provided to the Department under this ICR is necessary for the Department to make an informed decision regarding the application for exemption. Further, the required notice to interested parties ensures that participants and beneficiaries are informed about the application for exemption and have an opportunity to comment.

Comments submitted in response to this notice will be summarized and/or included in the request for Office of Management and Budget approval of the ICR; they will also become a matter of public record.

Dated: August 8, 2001.
Gerald B. Lindrew,
Deputy Director, Pension and Welfare Benefits Administration, Office of Policy and Research.

[FR Doc. 01-20375 Filed 8-13-01; 8:45 am]

BILLING CODE 4510-29-P